DEPARTMENT OF EDUCATION

Institute of Education Sciences; Overview Information; Grant Program for Statewide Longitudinal Data Systems; Notice Inviting Applications for New Awards Under the American Recovery and Reinvestment Act of 2009.

Catalog of Federal Domestic Assistance (CFDA) Number: 84.384A.

Dates:

Applications Available: July 24, 2009 (Request for Applications [RFA]); August 10, 2009 (Application Package).

Deadline for Transmittal of Applications: November 19, 2009.

Full Text of Announcement

I. Funding Opportunity Description

Purpose of Program: The purpose of assistance under this program is to enable State educational agencies to design, develop, and implement statewide, longitudinal data systems to efficiently and accurately manage, analyze, disaggregate and use individual student data. The goal of the program is to enable all States to create comprehensive systems that permit the generation and use of accurate and timely data, support informed decision-making at all levels of the education system, increase the efficiency with which data may be analyzed to support the continuous improvement of education services and outcomes, facilitate research to improve student achievement and close achievement gaps, and support education accountability systems and public reporting.

This competition is being conducted with funds appropriated under the American Recovery and Reinvestment Act of 2009, Public Law No. 111-5 (ARRA). The purposes of the ARRA include the following:

(a) To preserve and create jobs and promote economic recovery.

(b) To assist those most impacted by the recession.

(c) To provide investments needed to increase economic efficiency by spurring technological advances in science and health.

(d) To invest in transportation, environmental protection, and other infrastructure that will provide long-term economic benefit.

(e) To stabilize State and local government budgets in order to minimize and avoid reductions in essential services and counterproductive State and local tax increases.

Funding provided under this competition is to be used for statewide data systems that, in addition to P-12 data, also include postsecondary and workforce information. Grants will support the development and implementation of P-20 systems that have the capacity to link individual student data across time and across databases, including matching teachers to students, promote interoperability for easy matching and linking of data across institutions and States, and protect student privacy consistent with applicable privacy protection laws. This additional one-time funding provided by the ARRA will permit grantee State educational agencies (SEAs) to accelerate the development of their data systems, to include not only data related to K-12 education, but also data on preschool and postsecondary education and workforce information, and to promote linkages with other data systems where such linkages may inform education policy and practice.

Program Authority: 20 U.S.C. 9607; American Recovery and Reinvestment Act of 2009, Division A, Title VIII, Public Law No. 111-5.

Applicable Regulations: The Education Department General Administrative Regulations (EDGAR) in 34 CFR parts 77, 80, 81, 82, 84, 85, 97, 98, and 99. In addition, the regulations in 34 CFR part 75 are applicable, except for the provisions in 34 CFR 75.100, 75.101(b), 75.102, 75.103, 75.105, 75.109(a), 75.200, 75.201, 75.209, 75.210, 75.211, 75.217, 75.219, 75.220, 75.221, 75.222, and 75.230.

II. Award Information

Type of Award: Cooperative agreements.

Available Funds: $245,000,000.

Estimated Average Size of Awards: Grants will range from $2,000,000 to $20,000,000 for the entire project period.

Estimated Number of Awards: The number of awards made under this competition will depend upon the nature and quality of the applications received.

Note: The Department is not bound by any estimates in this notice.

Project Period: Not to exceed 3 years.

III. Eligibility Information

1. Eligible Applicants: Eligible applicants are limited to SEAs.

2. a. Cost Sharing or Matching: This competition does not require cost sharing or matching.

b. Supplement-Not-Supplant: This competition involves supplement-not-supplant funding requirements. Funds made available under this grant program are to be used to supplement, and not supplant, other State or local funds used for developing State data systems.

IV. Application and Submission Information

1. RFA and Other Information: Information regarding program and application requirements for this competition will be contained in the RFA package, which will be available on July 24, 2009, at the following Web site: http://ies.ed.gov/funding.

2. Application Package: The application package with forms and instructions for applying to this competition will be available no later than August 10, 2009, at the Department's e-Grants Web site at: http://e-grants.ed.gov.

Individuals with disabilities can obtain a copy of the application package in an accessible format (e.g., braille, large print, audiotape, or computer diskette) by contacting the person listed under Accessible Format in section VIII of this notice.

Note: Interested potential applicants should periodically check the Institute's Web site at http://ies.ed.gov/funding.

3. Submission Requirements: Applications for grants under this program must be submitted electronically unless you qualify for an exception to this requirement in accordance with the instructions in this section.

a. Electronic Submission of Applications.

Applications for grants under the Statewide Longitudinal Data Systems competition, CFDA Number 84.384A, must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .PDF (Portable Document) format. If you upload a file type other than the file type specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Elizabeth Payer, U.S. Department of Education, 555 New Jersey Avenue, NW., room 602C Capital Place, Washington, DC 20208. FAX: (202) 219-1466.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.384A), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address:

U.S. Department of Education, Application Control Center, Attention: (CFDA Number 84.384A), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number for this competition, 84.384A; and

(2) The Application Control Center will mail to you a notification of receipt of your grant application. If you do not receive this grant notification within 15 business days from the application deadline date, you should call the U.S. Department of Education Application Control Center at (202) 245-6288.

Individuals with disabilities can obtain a copy of the application package in an accessible format (e.g., braille, large print, audiotape, or computer diskette) by contacting the person listed under Accessible Format in section IX of this notice.

Note: Interested potential applicants should periodically check the Institute's Web site at http://ies.ed.gov/funding.

V. Application Review Information

Selection Criteria: Information regarding selection criteria and review procedures for this competition will be provided in the RFA package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

In addition, the GAN includes terms and conditions necessary for effective implementation of data collection and accountability requirements under the ARRA.

3. Reporting: The ARRA requires accountability and transparency in the use of funds provided under the law. To meet the reporting requirements under the ARRA, you must (a) ensure that funds provided by the ARRA are clearly distinguishable from other funds and (b) no later than ten days after the end of each calendar quarter, starting on July 10, 2009, submit a report to the Department that contains—

(1) The total amount of recovery funds received from the Department;

(2) The amount of recovery funds that were expended or obligated to projects or activities;

(3) A detailed list of all projects or activities for which recovery funds were expended or obligated, including—

(i) The name of the project or activity;

(ii) A description of the project or activity;

(iii) An evaluation of the completion status of the project or activity;

(iv) An estimate of the number of jobs created and the number of jobs retained by the project or activity; and

(v) For infrastructure investments made by State and local governments, the purpose, total cost, and rationale of the agency for funding the infrastructure investment with funds made available under the ARRA, and the name of the person to contact at the agency if there are concerns with respect to the infrastructure investment; and

(4) Detailed information on any subcontracts or subgrants that you awarded to include the data elements required to comply with the Federal Funding Accountability and Transparency Act of 2006, allowing aggregate reporting on awards below $25,000 or to individuals, as prescribed by the Director of the Office of Management and Budget.

More specific and detailed reporting requirements will be included in the terms and conditions of the grant contained in the GAN. At the end of your project period, you also must submit a final performance report, including financial information, as directed by the Secretary. For specific requirements on reporting, please go to http://www.ed.gov/fund/grant/apply/appforms/appforms.html.

4. Performance Measures: The Request for Applications for this competition outlines seven data system capabilities and 12 data system elements that are required of all statewide, longitudinal data systems developed with funds under this program. To evaluate the overall success of the program, the Institute will consider two performance measures. For the first measure, the Institute will determine annually and at the end of your grant whether you have in operation a statewide, longitudinal (P-20) data system that has achieved each of the seven required system capabilities set out in the RFA, and based on this information, we will determine how many States have achieved each capability. For the second measure, the Institute will determine annually and at the end of your grant whether your system includes each of the 12 elements required by the RFA, and based on this information, how many States have included each element in its system. The 12 required data system elements are those prescribed by the America COMPETES Act.

States will be reporting on the implementation of these elements in the context of reporting for the State Fiscal Stabilization Fund, and these State reports will be one source of data for the second measure. In your annual performance reports for a grant under this program, you will be expected to report on the status of your achievement of each of the required data system capabilities and on the inclusion of each of the required data system elements. In your final performance report, you will be expected to report on whether you have achieved each of the capabilities and whether you have included each of the elements in your operational data system. The Institute will also collect information on your progress with these requirements via its monitoring over the course of your grant.

The Department recognizes that requests for data and information should reflect an integrated and coordinated approach among the various Recovery Act programs, particularly the Stabilization, Race to the Top, School Improvement Grants, and Statewide, Longitudinal Data Systems grant programs. Accordingly, the Department will continue to evaluate our requests for data and information under this program in context with other Recovery Act programs.

5. Grant Administration: Applicants should budget for a two-day meeting for project directors to be held in Washington, DC.

VII. Agency Contact

For Further Information Contact: Tate Gould, U.S. Department of Education, National Center for Education Statistics, 1990 K Street, NW., room 9023, Washington, DC 20006-5651. Telephone: (202) 219-7080 or via Internet: Tate.Gould@ed.gov.

If you use a TDD, call the Federal Relay Service, toll free, at 1-800-877-8339.

VIII. Other Information

Accessible Format: Individuals with disabilities can obtain this document and a copy of the application package in an accessible format (e.g., braille, large print, audiotape, or computer diskette) on request to the program contact person listed here under For Further Information Contact.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 22, 2009.
John Q. Easton,
Director, Institute of Education Sciences.

[FR Doc. E9-17908 Filed 7-24-09; 11:15 am]

BILLING CODE 4000-01-P